DEPARTMENT OF COMMERCE

[Docket No. 140710572-4756-02]

Privacy Act New System of Records

AGENCY: Department of Commerce.

ACTION: Notice; COMMERCE/NOAA-15, Monitoring of National Marine Fisheries Service Observers.

SUMMARY: The Department of Commerce (Commerce) publishes this notice to announce the effective date of a Privacy Act System of Records entitled Commerce/NOAA-15, Monitoring of National Marine Fisheries Service Observers.

The notice of proposed amendment to this system of records was published in the Federal Register on July 31, 2014.

DATES: The system of records becomes effective on September 18, 2014.

ADDRESSES: For a copy of the system of records please mail requests to Lee Benaka, National Marine Fisheries Service (F/ST4), 1315 East West Highway, Silver Spring, MD 20910.

FOR FURTHER INFORMATION CONTACT: Lee Benaka, National Oceanic and Atmospheric Administration, 301-427-8554.

SUPPLEMENTARY INFORMATION: On July 31, 2014, the Department of Commerce published and requested comments on a proposed Privacy Act System of Records entitled Commerce/NOAA-15, Monitoring of National Marine Fisheries Service Observers (79 FR 147).

No comments were received in response to the request for comments. By this notice, the Department is adopting the proposed system as final without changes effective September 18, 2014.

Dated: September 5, 2014.
Brenda Dolan,
U.S. Department of Commerce, Freedom of Information and Privacy Act Officer.

[FR Doc. 2014-22252 Filed 9-17-14; 8:45 am]

BILLING CODE 3510-DT-P